DEPARTMENT OF COMMERCE

International Trade Administration

[A-570-890]

Wooden Bedroom Furniture From the People's Republic of China: Final Results of Antidumping Duty Administrative Review; 2023

AGENCY: Enforcement and Compliance, International Trade Administration, Department of Commerce.

SUMMARY: The U.S. Department of Commerce (Commerce) determines that eight exporters of wooden bedroom furniture from the People's Republic of China (China) under review have not established their eligibility for a separate rate and are part of the China-wide entity. The period of review (POR) is January 1, 2023, through December 31, 2023.

DATES: Applicable September 17, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On May 14, 2025, Commerce published the Preliminary Results of this review in the Federal Register and invited interested parties to comment.¹ On June 4,2025, the American Furniture Manufacturers Committee for Legal Trade and Vaughan-Bassett Furniture Company, Inc. (collectively, the petitioners) submitted a letter in lieu of a case brief in which they commented on the Preliminary Results.²

¹ See Wooden Bedroom Furniture from the People's Republic of China: Preliminary Results and Rescission, in Part, of Antidumping Duty Administrative Review; 2023, 90 FR 20456 (May 14, 2025) (Preliminary Results).

² See Petitioners' Letter, “Petitioners' Letter in Lieu of Case Brief,” dated June 4, 2025.

Scope of the Order ³

³ See Notice of Amended Final Determination of Sales at Less Than Fair Value and Antidumping Duty Order: Wooden Bedroom Furniture from the People's Republic of China, 70 FR 329 (January 4, 2005) (Order).

The merchandise covered by the Order is wooden bedroom furniture from China. For a full description of the scope of the Order, see the Issues and Decision Memorandum.⁴

⁴ See Memorandum, “Issues and Decision Memorandum for the Final Results of the Administrative Review of the Antidumping Duty Order on Wooden Bedroom Furniture from the People's Republic of China; 2023,” dated concurrently with, and hereby adopted by, this notice (Issues and Decision Memorandum).

Analysis of Comments Received

We addressed the issue raised by the petitioners in their letter in lieu of a case brief in the Issues and Decision Memorandum. The issue that the petitioners raised, and to which we responded in the Issues and Decision Memorandum, is identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

We have not granted a separate rate to seven companies under review. For further details of the changes since the Preliminary Results, see the Issues and Decision Memorandum.

Separate Rates

The following companies did not file a no-shipments letter, a separate rate application or certification, and did not respond to Commerce's quantity and value questionnaire and additional questions in order to receive consideration for separate rate status: (1) Dorbest Ltd.; (2) Fine Furniture (Shanghai) Ltd.; (3) Rui Feng Lumber Development Co., Ltd.; (4) Rui Feng Woodwork Co., Ltd.; (5) Wanvog Furniture (Kunshan) Co., Ltd.; (6) Yeh Brothers World Trade Inc.; and (7) Zhongshan Fookyik Furniture Co., Ltd. Therefore, we have not granted a separate rate to these companies and have treated them as part of the China-wide entity.

Additionally, we continue to determine that Shenzhen New Fudu Furniture Co., Ltd. failed to demonstrate that it qualifies for a separate rate status, and thus we have treated it as part of the China-wide entity.

Final Results of Review

We find that the following companies are part of the China-wide entity because they did not demonstrate their eligibility for a separate rate: (1) Dorbest Ltd.; (2) Fine Furniture (Shanghai) Ltd.; (3) Rui Feng Lumber Development Co., Ltd.; (4) Rui Feng Woodwork Co., Ltd.; (5) Wanvog Furniture (Kunshan) Co., Ltd.; (6) Yeh Brothers World Trade Inc.; (7) Zhongshan Fookyik Furniture Co., Ltd.; and (8) Shenzhen New Fudu Furniture Co., Ltd.

Disclosure

Normally, Commerce discloses the calculations and analysis performed for the final results of review within five days of the date of publication of the notice of final results of review in the Federal Register, in accordance with 19 CFR 351.224(b). However, because Commerce did not calculate any dumping margins in this review, there are no calculations to disclose.

Assessment Rates

Pursuant to section 751(a)(2)(C) of the Tariff Act of 1930, as amended (the Act), and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

We intend to instruct CBP to liquidate entries of subject merchandise exported by the companies list above that failed to qualify for a separate rate at the China-wide entity rate.

Cash Deposit Requirements

The following cash deposit requirements for estimated antidumping duties will be effective for all shipments of subject merchandise entered, or withdrawn from warehouse, for consumption on or after the date of publication of this notice in the Federal Register as provided by section 751(a)(2)(C) of the Act: (1) for any previously investigated or reviewed China or non-China exporter that has a separate rate, the cash deposit rate will continue to be the exporter's existing cash deposit rate; (2) for all China exporters of subject merchandise that do not have a separate rate, including those exporters that failed to establish their separate rate eligibility in this review, the cash deposit rate will be equal to the dumping margin assigned to the China-wide entity, which is 216.01 percent; and (3) for all non-China exporters of subject merchandise that do not have a separate rate, the cash deposit rate will be equal to the dumping margin applicable to the China exporter(s) that supplied that non-China exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as the only reminder to parties subject to an APO of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

We are issuing these final results of administrative review and publishing this notice in accordance with sections 751(a)(1) and 777(i) of the Act, and 19 CFR 351.213(h)(2) and 351.221(b)(5).

Dated: September 11, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issue

Comment: Whether Certain Exporters are Entitled to a Separate Rate

VI. Recommendation

[FR Doc. 2025-17985 Filed 9-16-25; 8:45 am]

BILLING CODE 3510-DS-P